DEPARTMENT OF LABOR

Employment and Training Administration

[TA-W-55,311]

Butler Manufacturing Company/Bluescope Steel, Galesburg, Illinois; Notice of Termination of Investigation

Pursuant to Section 221 of the Trade Act of 1974, as amended, an investigation was initiated on July 23, 2004 in response to a worker petition filed by the United Steelworks of America, Local 2629 on behalf of workers of Butler Manufacturing Company/Bluescope Steel, Galesburg, Illinois.

The petitioning group of workers is covered by an earlier petition filed on July 22, 2004 (TA-W-55,290) that is the subject of an ongoing investigation for which a determination has not yet been issued. Further investigation in this case would duplicate efforts and serve no purpose; therefore the investigation under this petition has been terminated.

Signed at Washington, DC this 27th day of July 2004.
Linda G. Poole,
Certifying Officer, Division of Trade Adjustment Assistance.

[FR Doc. 04-18228 Filed 8-9-04; 8:45 am]

BILLING CODE 4510-30-P